SURFACE TRANSPORTATION BOARD

[Docket No. FD 36622 (Sub-No. 1)]

Evansville Western Railway, Inc.—Temporary Trackage Rights Exemption—Illinois Central Railroad Company

On July 14, 2022, the Evansville Western Railway, Inc. (EVWR), filed a request under 49 CFR 1180.2(d)(8) for an extension of the temporary overhead trackage rights previously granted in this docket over an approximately 11.7-mile line of railroad owned by Illinois Central Railroad Company, between Sugar Camp, Ill., at milepost 61.9, and Dial, Ill., at milepost 73.6 (the Line).

EVWR was authorized to acquire these trackage rights over the Line by notice of exemption served on June 8, 2022, and published in the Federal Register on June 13, 2022 (87 FR 35846). The purpose of the trackage rights is to allow EVWR to load unit coal trains at Pond Creek Mine near Dial until EVWR's service at the Sugar Camp Mine can be restored following the mine's closure due to a mine fire and the unrelated, but necessary, relocation of long wall mining equipment. Currently, the rights are scheduled to expire on the earlier of: (i) July 15, 2022, or (ii) the re-opening of the Sugar Camp Mine “with sufficient production to fulfill the required requested loadings of unit trains of coal.” EVWR seeks to extend the temporary trackage rights until the earlier of: (i) August 15, 2022 or (ii) the re-opening of the Sugar Camp Mine “with sufficient production to fulfill the required requested loadings of unit trains of coal.”

Under 49 CFR 1180.2(d)(8), the parties may, prior to the expiration of the temporary trackage rights, file a request for a renewal of the temporary rights for an additional period of up to one year, including the reasons for the extension. EVWR states that the Sugar Camp Mine is expected to remain inoperable for several more weeks and that an extension of the temporary trackage rights will allow it to continue service to its shippers by loading unit coal trains at Pond Creek Mine until EVWR's service at the Sugar Camp Mine can be restored. EVWR filed a copy of an executed amendment to the temporary trackage rights agreement with its request for an extension.

In accordance with 49 CFR 1180.2(d)(8), EVWR's temporary trackage rights over the Line will be extended and will expire on or before August 15, 2022, as explained above. The employee protective conditions imposed in the June 8, 2022 notice remain in effect. Notice of the extension will be published in the Federal Register.

It is ordered:

1. EVWR's temporary trackage rights are extended and will expire on the earlier of: (i) August 15, 2022 or (ii) the re-opening of the Sugar Camp Mine with sufficient production to fulfill the required requested loadings of unit trains of coal.

2. Notice will be published in the Federal Register.

3. This decision is effective on its service date.

Decided: July 15, 2022.
By the Board, Mai T. Dinh, Director, Office of Proceedings.
Kenyatta Clay,
Clearance Clerk.

[FR Doc. 2022-15514 Filed 7-19-22; 8:45 am]

BILLING CODE 4915-01-P